SECURITIES AND EXCHANGE COMMISSION

[Release Nos. 33-9713A; 34-74158A, File No. 265-27]

Advisory Committee on Small and Emerging Companies; Notice of Meeting

AGENCY: Securities and Exchange Commission.

ACTION: Amended Notice of Meeting.

SUMMARY: Notice is hereby given of a change in a meeting of the Securities and Exchange Commission Advisory Committee on Small and Emerging Companies. The meeting was originally noticed for February 17, 2015 at 2:00 p.m. EST, as published in the Federal Register on February 2, 2015, 80 FR 5592. The agenda item for the meeting was consideration of recommendations to the Commission regarding the definition of “accredited investor.” However, due to snow, the Federal government in Washington, DC was closed on February 17, 2015, and therefore the meeting was postponed. The “accredited investor” recommendations will now be considered at the Advisory Committee's March 4, 2015 meeting, 9:30 a.m. EST, in Multi-Purpose Room LL-006 at the Commission's headquarters, 100 F Street NE., Washington, DC, which was previously published in the Federal Register on February 17, 2015, 80 FR 8374.

FOR FURTHER INFORMATION CONTACT: Julie Z. Davis, Senior Special Counsel, at (202) 551-3460, Office of Small Business Policy, Division of Corporation Finance, Securities and Exchange Commission, 100 F Street NE., Washington, DC 20549-3628.

Dated: February 20, 2015.
Brent J. Fields,
Committee Management Officer.

[FR Doc. 2015-03946 Filed 2-25-15; 8:45 am]

BILLING CODE 8011-01-P